DEPARTMENT OF TRANSPORTATION

National Highway Traffic Safety Administration

[Docket No. NHTSA-2015-0035; Notice 1]

General Motors, LLC; Receipt of Petition for Decision of Inconsequential Noncompliance

AGENCY: National Highway Traffic Safety Administration (NHTSA), Department of Transportation, DOT.

ACTION: Receipt of petition.

SUMMARY: General Motors, LLC, (GM) has determined that certain Model Year (MY) 2012-2015 Chevrolet Sonic passenger vehicles do not fully comply with paragraph S6.5.3.4.1 of Federal Motor Vehicle Safety Standard (FMVSS) No. 108, Lamps, Reflective Devices and Associated Equipment. GM has filed an appropriate report dated March 2, 2015, pursuant to 49 CFR part 573, Defect and Noncompliance Responsibility and Reports.

DATES: The closing date for comments on the petition is June 11, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. GM's Petition: Pursuant to 49 U.S.C. 30118(d) and 30120(h) (see implementing rule at 49 CFR part 556), GM submitted a petition for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

II. Vehicles Involved: Affected are approximately 310,243 MY 2012-2015 Chevrolet Sonic passenger cars manufactured between May 5, 2011 and February 4, 2015.

III. Noncompliance: GM explains that the noncompliance is that the high-beam headlamp lenses on the subject vehicles are not marked with “HB3” (the HB bulb type) as required by paragraph S6.5.3.4.1 of FMVSS No. 108.

IV. Rule Text: Paragraph S6.5.3.4.1 of FMVSS No. 108 requires in pertinent part:

S6.5.3.4.1 The lens of each replaceable bulb headlamp must bear permanent marking in front of each replaceable light source with which it is equipped that states either: The HB Type, if the light source conforms to S11 of this standard for filament light sources, . . .

V. Summary of GM's Analyses: GM stated its belief that the subject noncompliance is inconsequential to motor vehicle safety for the following reasons:

(A) The high-beam headlamp lenses in question are clearly marked “9005” (the ANSI designation), which GM believes to be a well-known alternative designation recognized throughout the automotive industry and used by lighting manufacturers interchangeably with HB3 the lamp's HB type. GM also verified that the vehicle owner's manuals identify the high beam replacement bulb as 9005.

(B) That the mismarked high-beam headlamps are the correct headlamps for the subject vehicles and that they conform to all other requirements including photometric as required by FMVSS No. 108.

(C) The risk of customer confusion when selecting a correct replacement bulb is remote. Both the HB3 type and the 9005 ANSI designation are marked on the vehicles' headlamp bulb sockets, and packaging for replacement bulbs is commonly marked with both the HB type and the ANSI designation. GM searched a number of national automotive parts stores (Autozone, O'Reilly, Advanced Auto Parts, and Pep Boys), and found that all HB3 replacement bulbs in these stores were marked with the 9005 ANSI designation. Should a consumer attempt to install an incorrect bulb into the headlamp sockets, the bulb could not be successfully installed because of the unique nature of the socket hardware.

(D) GM also cited several previous petitions that NHTSA has granted dealing with noncompliances that GM believes are similar to the noncompliance that is the subject of its petition. Based on these decisions, GM believes that there is also precedent to support granting its petition.

GM is not aware of any VOQ or field data in which a consumer has complained of not being able to identify the proper replacement headlamp bulb for the affected vehicles, which GM believes to be evidence that this noncompliance is not impacting consumers.

GM has additionally informed NHTSA that it has corrected the noncompliance by adding the HB3 designation bulb type to the high-beam headlamp lens in all vehicles produced on or after February 21, 2015.

In summation, GM believes that the described noncompliance of the subject vehicles is inconsequential to motor vehicle safety, and that its petition, to exempt GM from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that GM no longer controlled at the time it determined that the noncompliance existed. However, any decision on this petition does not relieve vehicle distributors and dealers of the prohibitions on the sale, offer for sale, or introduction or delivery for introduction into interstate commerce of the noncompliant vehicles under their control after GM notified them that the subject noncompliance existed.

Authority: 49 U.S.C. 30118, 30120: Delegations of authority at 49 CFR 1.95 and 501.8.

Jeffrey Giuseppe,
Director, Office of Vehicle Safety Compliance.

[FR Doc. 2015-11395 Filed 5-11-15; 8:45 am]

BILLING CODE 4910-59-P